COMMISSION ON CIVIL RIGHTS

Sunshine Act Notice

AGENCY: United States Commission on Civil Rights.

ACTION: Notice of briefing cancellation.

SUMMARY: On December 8, 2010 (75 FR 76396), the U.S. Commission on Civil Rights announced a briefing to be held on Friday, March 11, 2011 at the Commission's headquarters. On March 1, 2011, the Commission cancelled the briefing. The details of the cancelled meeting are:

DATE AND TIME: Friday, March 11, 2011; 9:30 a.m. EST.

PLACE: 624 Ninth Street, NW., Room 540, Washington, DC 20425.

Briefing Agenda

This briefing is open to the public.

Topic: The Civil Rights Implications of Eminent Domain Abuse.

I. Introductory Remarks by Chairman;

II. Speakers' Presentations;

III. Questions by Commissioners and Staff Director;

IV. Adjourn Briefing.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: March 1, 2011.
Kimberly Tolhurst,
Senior Attorney-Advisor.

[FR Doc. 2011-4910 Filed 3-2-11; 11:15 am]

BILLING CODE 6335-01-P